ENVIRONMENTAL PROTECTION AGENCY

40 CFR Part 180

[EPA-HQ-OPP-2017-0128; FRL-10840-02-OCSPP]

RIN 2070-ZA16

Pesticide Tolerances; Implementing Registration Review Decisions for Certain Pesticides; Aluminum tris (O-ethylphosphonate), Carbon disulfide, et al.; Technical Correction

AGENCY: Environmental Protection Agency (EPA).

ACTION: Final rule; technical correction.

SUMMARY: EPA issued a final rule in the Federal Register of July 19, 2023, finalizing several tolerance actions under the Federal Food, Drug, and Cosmetic Act (FFDCA) that the Agency determined were necessary or appropriate during the registration review conducted under the Federal Insecticide, Fungicide, and Rodenticide Act (FIFRA). That document inadvertently instructed the Federal Register to designate a tolerance for ginseng as time-limited, with an expiration date, but used an incorrect footnote number and neglected to include the expiration date. Elsewhere, an instruction to redesignate a paragraph was not clearly stated. This technical correction to the final rule will address these errors.

DATES: This final rule correction is effective August 21, 2023.

ADDRESSES: The docket for this action, identified by docket identification (ID) number EPA-HQ-OPP-2017-0128, is available online at https://www.regulations.gov or in person at the Office of Pesticide Programs Regulatory Public Docket (OPP Docket) in the Environmental Protection Agency Docket Center (EPA/DC), West William Jefferson Clinton Bldg., Rm. 3334, 1301 Constitution Ave. NW, Washington, DC 20460-0001. Additional instructions for visiting the docket, along with more information about dockets generally, is available at https://www.epa.gov/dockets.

FOR FURTHER INFORMATION CONTACT: Christina Scheltema, Pesticide Re-Evaluation Division (7508M), Office of Pesticide Programs, Environmental Protection Agency, 1200 Pennsylvania Ave. NW, Washington, DC 20460-0001; telephone number: (202) 566-2272; email address: scheltema.christina@epa.gov.

SUPPLEMENTARY INFORMATION:

I. Does this action apply to me?

The Agency included in the July 19, 2023, final rule a list of those who may be potentially affected by this action.

II. What do these corrections do?

EPA issued a final rule in the Federal Register of July 19, 2023 (88 FR 40677) (FRL-10840-01-OCSPP) that finalized several tolerance actions identified during the registration review of several pesticide chemicals. This technical correction addresses inadvertent typographical errors related to the redesignations of a paragraph and subparagraph in 40 CFR 180.414 (d) and the numbering of a footnote and omission of footnote text for a tolerance for Ginseng in 40 CFR 180.415. Specifically, the regulatory text published in the July 19,2023 final rule inadvertently omitted the designation of paragraph (d)(1) in 40 CFR 180.414, and incorrectly numbered the footnote for the tolerance for Ginseng and omitted the footnote text in 40 CFR 180.415.

III. Why are these corrections issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making these corrections final without prior proposal and opportunity for comment, because EPA inadvertently omitted instructions to the Federal Register to redesignate 40 CFR 180.414 paragraph (d) as paragraph (d)(1); and incorrectly instructed the Federal Register to add footnote number 1 to the tolerance for Ginseng in 40 CFR 180.415 rather than correctly numbering it as footnote number 2. The Agency neglected to provide the text for the body of the footnote. Because these are corrections of typographical errors in the regulatory text of a final tolerance rule and because the correct information was contained in the rule preamble, EPA finds that this constitutes good cause under 5 U.S.C. 553(b)(3)(B).

IV. Do any of the statutory and executive order review apply to this action?

No. For a detailed discussion concerning the statutory and executive order review refer to Unit V. of the July 19, 2023, final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR part 180

Environmental protection, Administrative practice and procedure, Agricultural commodities, Pesticides and pests, Reporting and recordkeeping requirements.

Dated: August 14, 2023.
Edward Messina,
Director, Office of Pesticide Programs.

Therefore, for the reasons stated in the preamble, 40 CFR part 180 is corrected by making the following correcting amendments:

PART 180—TOLERANCES AND EXEMPTIONS FOR PESTICIDE CHEMICAL RESIDUES IN FOOD

1. The authority citation for part 180 continues to read as follows:

Authority: 21 U.S.C. 321(q), 346a and 371.

2. Amend § 180.414 by:

a. Redesignating the text of paragraph (d) introductory text as paragraph (d)(1) introductory text;

b. Revising newly designated paragraph (d)(1) introductory text;

c. Adding a heading to the table in newly designated paragraph (d)(1); and

d. Adding paragraph (d)(2).

The revision and additions read as follows.

§ 180.414 Cyromazine; tolerances for residues.

* * * * *

(d) * * *

(1) Tolerances are established for indirect or inadvertent residues of the insecticide cyromazine, including its metabolites and degradates, in or on the commodities in table 1 to this paragraph (d)(1) when present therein as a result of the application of cyromazine to growing crops listed in paragraph (a)(1) of this section. Compliance with the tolerance levels specified in this paragraph (d)(1) is to be determined by measuring only cyromazine, N-cyclopropyl-1,3,5-triazine-2,4,6-triamine, in or on the commodity.

Table 2 to Paragraph (d)(1)

* * * * *

(2) Tolerances are established for indirect or inadvertent residues of the insecticide cyromazine, including its metabolites and degradates, in or on the commodities in the table 3 to this paragraph (d)(2) when present therein as a result of the application of poultry manure-based fertilizer containing cyromazine to soil in which the crops identified in this section are grown. Compliance with the tolerance levels specified in this paragraph (d)(2) is to be determined by measuring only cyromazine, N-cyclopropyl-1,3,5-triazine-2,4,6-triamine, in or on the commodity.

Table 3 to Paragraph (d)(2)
Commodity | Parts per million
Grain, cereal, forage, fodder and straw, group 16 | 0.6
Grain, cereal, group 15 | 0.6
Herbs and spices, group 19 | 0.6
Oilseed, group 20 | 0.6
Onion, bulb, subgroup 3-07A | 0.6
Strawberry | 0.6
Vegetable, foliage of legume, group 7 | 0.6
Vegetable, fruiting, group 8-10 | 0.6
Vegetable, leaves of root and tuber, group 2 | 0.6
Vegetable, legume, group 6 | 0.6
Vegetable, root and tuber, group 1 | 0.6

3. In § 180.415, amend table 1 to paragraph (a) by:

a. Removing the entry “Ginseng ¹” and adding in its place the entry “Ginseng ²”; and

b. Redesignating the second footnote 1 as footnote 2.

The addition reads as follows:

§ 180.415 Aluminum tris (O-ethylphosphonate); tolerances for residues.

* * * * *

Table 1 to Paragraph (a)
Commodity | Parts per million
* * * * * * *
Ginseng ² | 0.1
* * * * * * *
² This tolerance expires on January 19, 2024.

* * * * *

[FR Doc. 2023-17800 Filed 8-18-23; 8:45 am]

BILLING CODE 6560-50-P